DEPARTMENT OF JUSTICE

Notice of Lodging of Consent Decree; Pursuant to the Clean Water Act and Comprehensive Environmental Response Compensation and Liability Act

Notice is hereby given that on August 14, 2009, a proposed Consent Decree in United States v. Magellan Ammonia Pipeline et al., (D. Kan.), No. 02:09-cv-2425, was lodged with the United States Court for the District of Kansas.

In this action, the United States sought the penalties and injunctive relief pursuant to sections 301 and 311 of the Clean Water Act, 33 U.S.C. 1311, 1321, and section 103 of the Comprehensive Environmental Response, Compensation, and Liability Act, 42 U.S.C. § 9603, against Magellan Ammonia Pipeline, L.P. (“Magellan”), Enterprise Products Operating, L.P. (“Enterprise”), and Mid-America Pipeline Company, LLC (“MAPCO”). The Complaint alleges that two discharges of anhydrous ammonia occurred in Blair Nebraska on September 27, 2004, and Kingman, Kansas on October 27, 2004, from an ammonia pipeline owned by Defendant Magellan and operated by Defendants Enterprise and MAPCO and that Defendants failed to report the discharges in a timely fashion to the National Response Center.

Pursuant to the proposed Consent Decree, the Settling Defendants will pay to the United States $3,650,000 in penalties for the discharges and reporting inadequacies. Defendant Magellan, which now both owns and operates the ammonia pipeline, will undertake injunctive measures aimed at reducing the likelihood of such discharges in the future and at improving its detection of and response to such discharges if they do occur.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Magellan Ammonia Pipeline et al., (D. Kan.) No. 02:09-cv-2425, D.J. Ref. 90-5-1-1-06074/2.

During the public comment period, the Consent Decree may be examined at the Office of the United States Attorney, District of Kansas, 500 State Avenue, Suite 360, Kansas City, Kansas 66101. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.50 (25 cents per page reproduction cost) payable to the U.S. Treasury.

Maureen Katz,
Assistant Section Chief, Environmental Enforcement Section, Environment and Natural Resources Division.

[FR Doc. E9-19996 Filed 8-19-09; 8:45 am]

BILLING CODE 4410-15-P